DEPARTMENT OF JUSTICE

Drug Enforcement Administration

21 CFR Part 1308

[Docket No. DEA-1156]

Announcement of Stayed Hearing: Schedules of Controlled Substances: Placement of 2,5-dimethoxy-4-iodoamphetamine (DOI) and 2,5-dimethoxy-4-chloroamphetamine (DOC) in Schedule I

AGENCY: Drug Enforcement Administration, Department of Justice.

ACTION: Notification of stay of hearing on proposed rulemaking.

SUMMARY: This is a notification that the Drug Enforcement Administration has stayed the June 10, 2024 hearing on the proposed placement of two phenethylamine hallucinogens, as identified in the proposed rule, in schedule I of the Controlled Substances Act.

DATES: The hearing will not be taking place on June 10, 2024.

ADDRESSES: Office of the Administrative Law Judges, 8701 Morrissette Drive, Springfield, Virginia 22152.

FOR FURTHER INFORMATION CONTACT: Hearing Clerk, Debralynn Rosario, Office of the Administrative Law Judges, 8701 Morrissette Drive, Springfield, Virginia 22152; Telephone: (571) 362-7035.

SUPPLEMENTARY INFORMATION:

Background

On December 13, 2023, the Drug Enforcement Administration (DEA) published a Notice of Proposed Rulemaking (NPRM) in the Federal Register (88 FR 86278) to place two phenethylamine hallucinogen substances in schedule I of the Controlled Substances Act (CSA) (21 U.S.C. 801, et seq.). Specifically, in this NPRM, DEA proposed to schedule the following two controlled substances in schedule I of the CSA, including their salts, isomers, and salts of isomers whenever the existence of such salts, isomers, and salts of isomers is possible within the specific chemical designation:

• 2,5-dimethoxy-4-iodoamphetamine (DOI), and

• 2,5-dimethoxy-4-chloroamphetamine (DOC).

On April 9, 2024, DEA published a Notice of Hearing on Proposed Rulemaking (Notice of Hearing) in the FR (89 FR 24750) stating that a hearing would commence on June 10, 2024. Subsequently, a collateral matter was filed in a U.S. District Court and the DEA Administrative Law Judge stayed the administrative hearing proceedings pending a decision from the U.S. District Court. As the matter before DEA is currently stayed, no hearing will commence on June 10, 2024.

Signing Authority

This document of the Drug Enforcement Administration was signed on June 3, 2024, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2024-12504 Filed 6-6-24; 8:45 am]

BILLING CODE 4410-09-P